DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On June 25, 2002, a notice was published in the Federal Register (67 FR 42791), that an application had been filed with the Fish and Wildlife Service by Dietrich Beusse, University of Florida, Gainesville, FL for a permit (PRT-051399) to take for scientific research Florida manatees (Trichechus manatus) to record and playback vocalizations in Florida waters.

Notice is hereby given that on August 28, 2002, as authorized by the provisions of the Marine Mammal Protection Act of 1972, as amended (16 U.S.C. 1361 et seq.), and the Endangered Species Act of 1973, as amended (16 U.S.C. 1531, et seq.), the Fish and Wildlife Service issued the requested permit subject to certain conditions set forth therein.

On June 28, 2002, a notice was published in the Federal Register (67 FR 43676), that an application had been filed with the Fish and Wildlife Service by Edwin De Young for a permit (PRT-058028) to import one polar bear (Ursus maritimus) taken from the Viscount Melville polar bear population, Canada, for personal use.

Notice is hereby given that on August 28, 2002, as authorized by the provisions of the Marine Mammal Protection Act of 1972, as amended (16 U.S.C. 1361 et seq.) the Fish and Wildlife Service issued the requested permit subject to certain conditions set forth therein.

On July 5, 2002, a notice was published in the Federal Register (67 FR 44873), that an application had been filed with the Fish and Wildlife Service by George R. Harms, Brielle, NJ for a permit (PRT-058893) to import one polar bear (Ursus maritimus) taken from the Lancaster Sound polar bear population, Canada, for personal use.

Notice is hereby given that on September 10, 2002, as authorized by the provisions of the Marine Mammal Protection Act of 1972, as amended (16 U.S.C. 1361 et seq.) the Fish and Wildlife Service issued the requested permit subject to certain conditions set forth therein.

On July 9, 2002, a notice was published in the Federal Register (67 FR 45530), that an application had been filed with the Fish and Wildlife Service by University of South Florida, College of Marine Science, St. Petersburg, FL for a permit (PRT-051709) to take for scientific research Florida manatees (Trichechus manatus) to record and playback vocalizations in Florida waters.

Notice is hereby given that on August 28, 2002, as authorized by the provisions of the Marine Mammal Protection Act of 1972, as amended (16 U.S.C. 1361 et seq.), and the Endangered Species Act of 1973, as amended (16 U.S.C. 1531, et seq.), the Fish and Wildlife Service issued the requested permit subject to certain conditions set forth therein.

On July 9, 2002, a notice was published in the Federal Register (67 FR 45530), that an application had been filed with the Fish and Wildlife Service by K. James Malady, III, for a permit (PRT-058909) to import one polar bear (Ursus maritimus) taken from the Lancaster Sound polar bear population, Canada, for personal use.

Notice is hereby given that on August 28, 2002, as authorized by the provisions of the Marine Mammal Protection Act of 1972, as amended (16 U.S.C. 1361 et seq.) the Fish and Wildlife Service issued the requested permit subject to certain conditions set forth therein.

Dated: September 13, 2002.
Monica Farris,
Senior Permit Biologist, Branch of Permits, Division of Management Authority.

[FR Doc. 02-24315 Filed 9-24-02; 8:45 am]

BILLING CODE 4310-55-P